OFFICE OF SPECIAL COUNSEL

SES Performance Review Board

AGENCY: U.S. Office of Special Counsel

ACTION: Notice.

SUMMARY: Notice is hereby given of the appointment of a member of the OSC Performance Review Board. The following person has been appointed to the SES Performance Review Board in the U.S. Office of Special Counsel: Bernestine Allen, Director, Office of International Transportation and Trade, Department of Transportation.

FOR FURTHER INFORMATION CONTACT: M. Marie Glover, Director of Human Resources, U.S. Office of Special Counsel, 1730 M Street, NW., Suite 218, Washington, D.C. 20036-4505, (202) 653-9485.

SUPPLEMENTARY INFORMATION:

Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Dated: October 25, 2002.
Elaine D. Kaplan,
Special Counsel.

[FR Doc. 02-27763 Filed 10-31-02; 8:45 am]

BILLING CODE 7405-01-S